DEPARTMENT OF TRANSPORTATION

Federal Railroad Administration

[Docket No. FRA-2025-0004]

Proposed Agency Information Collection Activities; Comment Request

AGENCY: Federal Railroad Administration (FRA), Department of Transportation (DOT).

ACTION: Notice of information collection; request for comment.

SUMMARY: Under the Paperwork Reduction Act of 1995 (PRA) and its implementing regulations, this notice announces that FRA is forwarding the Information Collection Request (ICR) summarized below to the Office of Management and Budget (OMB) for review and comment. The ICR describes the information collection and its expected burden. On June 20, 2025, FRA published a notice providing a 60-day period for public comment on the ICR. FRA received no comments in response to the notice.

DATES: Interested persons are invited to submit comments on or before September 22, 2025.

ADDRESSES: Written comments and recommendations for the proposed ICR should be sent within 30 days of publication of this notice to www.reginfo.gov/public/do/PRAMain. Find the particular ICR by selecting “Currently under Review—Open for Public Comments” or by using the search function.

FOR FURTHER INFORMATION CONTACT: Ms. Arlette Mussington, Information Collection Clearance Officer, at email: arlette.mussington@dot.gov or telephone: (571) 609-1285 or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to issue two notices seeking public comment on information collection activities before OMB may approve paperwork packages. See 44 U.S.C. 3506, 3507; 5 CFR 1320.8 through 1320.12. On June 20, 2025, FRA published a 60-day notice in the Federal Register soliciting public comment on the ICR for which it is now seeking OMB approval. See 90 FR 26411. FRA has received no comments related to the proposed collection of information.

Before OMB decides whether to approve this proposed collection of information, it must provide 30 days' notice for public comment. Federal law requires OMB to approve or disapprove paperwork packages between 30 and 60 days after the 30-day notice is published. 44 U.S.C. 3507(b) and (c); 5 CFR 1320.12(d); see also 60 FR 44978, 44983, Aug. 29, 1995. The 30-day notice informs the regulated community of their opportunity to file relevant comments and affords the agency adequate time to consider public comments before it renders a decision. 60 FR 44983, Aug. 29, 1995. Therefore, respondents should submit their respective comments to OMB within 30 days of publication to best ensure having their full effect.

Comments are invited on the following ICR regarding: (1) whether the information collection activities are necessary for FRA to properly execute its functions, including whether the information will have practical utility; (2) the accuracy of FRA's estimates of the burden of the information collection activities, including the validity of the methodology and assumptions used to determine the estimates; (3) ways for FRA to enhance the quality, utility, and clarity of the information being collected; and (4) ways to minimize the burden of information collection activities on the public, including the use of automated collection techniques or other forms of information technology.

The summary below describes the ICR that FRA will submit for OMB clearance as the PRA requires:

Title: Fatigue Risk Management Program for Certain Passenger and Freight Railroads.

OMB Control Number: 2130-0633.

Abstract: In 2022, FRA issued a final rule that revised 49 CFR part 270—System Safety Program (SSP) and part 271—Risk Reduction Program (RRP), to require railroads subject to those rules ¹ to include a fatigue risk management program (FRMP) as one part of their railroad safety risk reduction programs.² A railroad must adopt and implement its FRMP through an FRMP plan that the railroad has submitted to FRA for review and approval.³ These FRMP requirements are found at part 270, subpart E—Fatigue Risk Management Programs and at part 271, subpart G— Fatigue Risk Management Programs. FRA will use the information collected to ensure that railroads are developing and implementing an FRMP that meets regulatory requirements.

¹ Part 270 applies to passenger rail operations (defined in 49 CFR 270.5 to mean “intercity, commuter, or other short-haul passenger rail service[s]”), and part 271 applies to Class I freight railroads, railroads that FRA determines demonstrate inadequate safety performance (ISP), and freight railroads that elect to voluntarily comply with part 271. See 49 CFR 270.3 and 271.3(a).

² 87 FR 35660-35675 (June 13, 2022). FRA issued the RRP, SSP, and FRMP final rules to implement a mandate in the Rail Safety Improvement Act of 2008 stating that FRA must require certain railroads to develop and implement a railroad safety risk reduction program that includes a fatigue management plan as one of its components. 49 U.S.C. 20156(d)(2) and (f).

³ §§ 270.409(a) and 271.609(a). A railroad must also consult with its directly affected employees and use good faith and best efforts to reach agreement with the employees on the contents of its FRMP plan. Id.

FRA will also use the collected information to determine whether a railroad's FRMP is improving railroad safety through the reduction of fatigue experienced by its safety-related railroad employees.

The purpose of an FRMP is to improve railroad safety through structured, systematic, and proactive processes and procedures that a railroad develops and implements to identify and mitigate the effects of fatigue on its employees.⁴ A railroad must design its FRMP, in part, to reduce fatigue experienced by its safety-related railroad employees and to reduce the risk of railroad accidents, incidents, injuries, and fatalities where the fatigue of any of these employees is a contributing factor.⁵ As part of a railroad's SSP or RRP, each FRMP must be an ongoing program that supports continuous safety improvement.⁶ A railroad must include its FRMP in the annual internal assessment of its SSP or RRP, and FRA also includes FRMPs in its external audits of a railroad's RRP or SSP to ensure that the railroad's FRMP processes and procedures comply with the FRMP regulation.⁷

⁴ §§ 270.403(a) and 271.603.

⁵ §§ 270.403(b)(1) and 271.603(b)(1).

⁶ §§ 270.103(p)(1)(vii) and 271.101(a).

⁷ §§ 270.303, 270.305, 270.405, 271.401, 271.501, and 271.605.

Type of Request: Extension without change (with changes in estimates) of a currently approved collection.

Affected Public: Businesses.

Form(s): N/A.

Respondent Universe: 6 Class I railroads, 15 ISP railroads, and 35 passenger rail operations.

Frequency of Submission: On occasion.

Total Estimated Annual Responses: 12.

Total Estimated Annual Burden: 436.

Total Estimated Annual Burden Hour Dollar Cost Equivalent: $38,816.

FRA informs all interested parties that it may not conduct or sponsor, and a respondent is not required to respond to, a collection of information that does not display a currently valid OMB control number.

(Authority: 44 U.S.C. 3501-3520.)

Issued in Washington, DC.
Christopher S. Van Nostrand,
Deputy Chief Counsel.

[FR Doc. 2025-16161 Filed 8-21-25; 8:45 am]

BILLING CODE 4910-06-P